DEPARTMENT OF VETERANS AFFAIRS

[OMB Control No. 2900-New (10-0466)]

Agency Information Collection Activities (VHA Mental Health Residential Rehabilitation and Treatment Programs) Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before May 4, 2009.

ADDRESSES: Submit written comments on the collection of information through http://www.Regulations.gov; or to VA's OMB Desk Officer, OMB Human Resources and Housing Branch, New Executive Office Building, Room 10235, Washington, DC 20503, (202) 395-7316. Please refer to “OMB Control No. 2900-New (10-0466)” in any correspondence.

FOR FURTHER INFORMATION CONTACT: Denise McLamb, Enterprise Records Service (005R1B), Department of Veterans Affairs, 810 Vermont Avenue, NW., Washington, DC 20420, (202) 461-7485, fax (202) 273-0443 or e-mail denise.mclamb@mail.va.gov. Please refer to “OMB Control No. 2900-New (10-0466).”

SUPPLEMENTARY INFORMATION: Title: VHA Mental Health Residential Rehabilitation and Treatment Programs (MHRRTP) Veterans Satisfaction Survey, VA Form 10-0466.

OMB Control Number: 2900-New (10-0466).

Type of Review: New collection.

Abstract: VA Form 10-0466 will be used to collected data necessary to improve VA's Mental Health Residential Rehabilitation and Treatment Programs. MHRRTP will use the data to assess their performance against other VA sites and evaluate the need for programmatic changes to improve the quality of rehabilitation service for veterans with disabilities.

An agency may not conduct or sponsor, and a person is not required to respond to a collection of information unless it displays a currently valid OMB control number. The Federal Register Notice with a 60-day comment period soliciting comments on this collection of information was published on January 26, 2009 at page 4506.

Affected Public: Individuals or households.

Estimated Annual Burden: 567.

Estimated Average Burden Per Respondent: 15 minutes.

Frequency of Response: On occasion.

Estimated Number of Respondents: 34,000.

By direction of the Secretary.
Denise McLamb,
Program Analyst, Enterprise Records Service.

[FR Doc. E9-7463 Filed 4-2-09; 8:45 am]

BILLING CODE